DEPARTMENT OF AGRICULTURE

Forest Service

Suction Dredging Activities; Siskiyou National Forest, Josephine, Coos, and Curry County, OR; Del Norte County, CA

AGENCY: Forest Service, USDA.

ACTION: Notice of intent to prepare an Environmental Impact Statement.

SUMMARY: The USDA, Forest Service (UFS), Siskiyou Forest National Forest, will prepare an Environmental Impact Statement (EIS). The purpose of the EIS is to summarize and disclose the environmental effects of a Proposed Action to approve proposed Plans of Operation for suction dredging within Riparian Reserves on mining claims located across the Siskiyou National Forest.

The Proposed Action is designed to be consistent with the Siskiyou National Forest Land and Resource Management Plan (1989), as amended by the Record of Decision for the Northwest Forest Plan (1994), and is scheduled for implementation during Calendar Year 2002.

Among several requirements, the 1994 Northwest Forest Plan Standard and Guideline MM-1 required that all minerals operations within Riparian Reserves must have an approved Plan of Operation. Additionally, a 1999 lawsuit ruling re-affirmed that the Siskiyou National Forest must implement the Northwest Forest Plan Standard and Guideline MM-1. The Siskiyou National Forest invites you to submit written issues with the Proposed Action. In addition, written issues will be solicited during public scoping efforts. The forest will also give notice of the full environmental analysis and decision making process so that interested and affected people are made aware as to how they may participate and contribute to the final decision.

DATES: Issues concerning the Proposed Action must be received by June 29, 2001.

ADDRESSES: Submit written issues regarding the Proposed Action to Jack Williams, Forest Supervisor, Siskiyou National Forest, 333 W. 8th Street, P.O. Box 520, Medford Oregon 97501.

FOR FURTHER INFORMATION CONTACT: Direct questions about the Proposed Action and EIS to Roger Mendenhall, Interdisciplinary Team Leader, Siskiyou National Forest, 200 N.E. Greenfield, P.O. Box 440, Grants Pass, Oregon 97526-0242; phone # 541-471-6500.

SUPPLEMENTARY INFORMATION: The Plans of Operation for suction dredging would occur within all of the major watersheds of Siskiyou National Forest.

The Forest Service will consider submitted issues to the Proposed Action in determining the kinds and depths of analysis needed. They may also be used to develop additional alternatives to the Proposed Action that would respond to significant issues. The no-action alternative, not approving the Plans of Operation, will also be considered.

Public participation will be important at several times during the analysis. The first time is during scoping. Reviewers may wish to refer to the Council on Environmental Quality Regulations for implementing the procedural provisions of the National Environmental Policy Act at 40 CFR 1501.7. The Agency will be seeking written issues with the Proposed Action from Federal, State, and local agencies, affected Indian tribes, and individuals who may be interested in or affected by the Proposal.

The Draft EIS is expected to be filed with the Environmental Protection Agency (EPA) and be available for review by July 2001. The comment period for the Draft EIS will be 45 days from the date that the EPA publishes the Notice of Availability in the Federal Register.

Submissions received in response to this notice, including names and addresses of those who comment, will be considered part of the public record on this Proposed Action and will be available for public inspection. Comments submitted anonymously will be accepted and considered, however, those who submit anonymous comments will not have standing to appeal the subsequent decision under 36 CFR part 215. Additionally, pursuant to 7 CFR 1.27(d), any person may request the agency to withhold a submission from the public record by showing how the Freedom of Information Act (FOIA) Permits such confidentiality. Person requesting such confidentiality should be aware that, under the FOIA, confidentially may be granted in only very limited circumstances, such as to protect trade secrets. The Forest Service will inform the request of the agency's decision regarding the request for confidentiality, and where the request is denied, he agency will return the submission and notify the requester that the comments may be resubmitted with or without name and address within a specified number of days.

The Forest Service believes it is important to give Reviewers notice, at this early stage, of several court rulings related to public participation in the environmental review process. First, a reviewers of a Draft EIS must structure their submissions in the environmental review process so that they are specific, meaningful, and alerts an agency to reviewer's position and contentions. Vermont Yankee Power Corp. v. NRDC, 435 U.S. 519, 533 (1978). Also, environmental objections that could be raised at the Draft EIS stage, but that are not raised until after the completion of the final EIS, may be waived or dismissed by the courts. City of Angoon v. Hodel, 803 F.2d. 1016, 1022 (9th Cir. 1986) and Wisconsin Heritages, Inc. v. Harris, 409 F. Supp. 1334, 1338 (E.D. Wis. 1980). Because of these court rulings, it is very important that those interested in this Proposed Action participate by the close of the 45 day comment period so that substantive comments and objections are made available to the Forest Service at a time when it can meaningfully consider and respond to them in the Final EIS.

To assist the Forest Service in identifying and considering comments, comments on the Draft EIS should be as specific as possible. It is also helpful if comments refer to specific pages or chapters of the Draft EIS. Comments may address the adequacy of the Draft EIS or the merits of the alternatives formulated and discussed in EIS. Reviewers may wish to refer to the Council on Environmental Quality Regulations for implementing the procedural provisions of the National Environmental Policy Act at 40 CFR 1503.3 in addressing these points.

After the 45 day comment period ends on the Draft EIS, comment will be considered and analyzed by the Agency in preparing the Final EIS. The Final EIS is scheduled for completion by October 2001. In the Final EIS, the Forest Service is required to respond to respond to the comments and responses received during the comment period that pertain to the environmental consequences discussed in the Draft EIS, applicable laws, regulations, and policies considered in making the decision regarding the proposal.

The Forest Service Responsible Official is Jack Williams, Forest Supervisor, of the Siskiyou National Forest. The Responsible Official will consider the Final EIS, applicable laws, regulations, policies, and analysis files in making a decision. The Responsible Official will document the decision and rationale in the Record of Decision. The decision will be subject to appeal by the general public under regulation 36 CFR 215.

Dated: May 17, 2001.
Jack E. Williams,
Forest Supervisor.

[FR Doc. 01-13374 Filed 5-25-01; 8:45 am]

BILLING CODE 3410-11-M